DEPARTMENT OF HEALTH AND HUMAN SERVICES

Food and Drug Administration

21 CFR Part 101

[Docket No. FDA-2008-N-0040] (Formerly Docket No. 2006N-0168)

Food Labeling: Revision of Reference Values and Mandatory Nutrients; Extension of Comment Period

AGENCY: Food and Drug Administration, HHS.

ACTION: Advance notice of proposed rulemaking; extension of comment period.

SUMMARY: The Food and Drug Administration (FDA) is extending to April 30, 2008, the comment period for the advance notice of proposed rulemaking (ANPRM) that appeared in the Federal Register of November 2, 2007 (72 FR 62149). In the ANPRM, FDA requested comments on what new reference values the agency should use to calculate the percent daily value (DV) in the Nutrition Facts and Supplement Facts labels and what factors the agency should consider in establishing such new reference values. In addition, FDA requested comments on whether it should require that certain nutrients be added or removed from the Nutrition Facts and Supplement Facts labels. The agency is taking this action in response to requests for an extension to allow interested persons additional time to submit comments.

DATES: Submit written and electronic comments by April 30, 2008.

ADDRESSES: You may submit comments, identified by Docket No. FDA-2008-N-0040 (formerly Docket No. 2006N-0168), by any of the following methods:

Electronic Submissions

Submit electronic comments in the following way:

• Federal eRulemaking Portal: http://www.regulations.gov. Follow the instructions for submitting comments.

Written Submissions

Submit written submissions in the following ways:

• FAX: 301-827-6870.

• Mail/Hand delivery/Courier [For paper, disk, or CD-ROM submissions]: Division of Dockets Management (HFA-305), Food and Drug Administration, 5630 Fishers Lane, rm. 1061, Rockville, MD 20852.

To ensure more timely processing of comments, FDA is no longer accepting comments submitted to the agency by e-mail. FDA encourages you to continue to submit electronic comments by using the Federal eRulemaking Portal, as described previously, in the ADDRESSES portion of this document under Electronic Submissions.

Instructions: All submissions received must include the agency name and Docket No(s). and Regulatory Information Number (RIN) (if a RIN number has been assigned) for this rulemaking. All comments received may be posted without change to http://www.regulations.gov, including any personal information provided. For additional information on submitting comments, see the “Request for Comments” heading of the SUPPLEMENTARY INFORMATION section of this document.

Docket: For access to the docket to read background documents or comments received, go to http://www.regulations.gov and insert the docket number(s), found in brackets in the heading of this document, into the “Search” box and follow the prompts and/or go to the Division of Dockets Management, 5630 Fishers Lane, rm. 1061, Rockville, MD 20852.

FOR FURTHER INFORMATION CONTACT: Paula R. Trumbo, Center for Food Safety and Applied Nutrition (HFS-830), Food and Drug Administration, 5100 Paint Branch Pkwy., College Park, MD 20740, 301-436-2579, or e-mail: Paula.Trumbo@fda.hhs.gov.

SUPPLEMENTARY INFORMATION:

I. Background

In the Federal Register of November 2, 2007, FDA published an ANPRM with a 90 day comment period to request comments on the revision of reference values and mandatory nutrients for food labeling, specifically the issues and questions presented in section II of the ANPRM (see 72 FR 62149 at 62168). Comments will inform FDA's approach to revising the reference values and mandatory nutrients for food labeling.

The agency has received requests for a 90-day extension of the comment period to the ANPRM. Each request conveyed concern that the current 90-day comment period, which closes January 31, 2008, does not allow sufficient time to develop a meaningful or thoughtful response to the request for comments on the issues and questions presented in section II of the ANPRM.

FDA has considered the requests and is extending the comment period for the ANPRM for 90 days, until April 30, 2008. The agency believes that a 90-day extension allows adequate time for interested persons to submit comments on the issues and questions presented in section II of the ANPRM without significantly delaying the agency's consideration of how FDA should revise the Nutrition Facts and Supplement Facts labels.

II. Request for Comments

Interested persons may submit to the Division of Dockets Management (see ADDRESSES) written or electronic comments regarding this document. Submit a single copy of electronic comments or two paper copies of any mailed comments, except that individuals may submit one paper copy. Comments are to be identified with the docket number found in brackets in the heading of this document. Received comments may be seen in the Division of Dockets Management between 9 a.m. and 4 p.m., Monday through Friday.

Please note that on January 15, 2008, the FDA Web site transitioned to the Federal Docket Management System (FDMS). FDMS is a Government-wide, electronic docket management system. Electronic submissions will be accepted by FDA through FDMS only.

Dated: January 22, 2008.
Jeffrey Shuren,
Assistant Commissioner for Policy.

[FR Doc. E8-1446 Filed 1-25-08; 8:45 am]

BILLING CODE 4160-01-S